OFFICE OF MANAGEMENT AND BUDGET

OMB Final Sequestration Report to the President and Congress for Fiscal Year 2016

AGENCY: Executive Office of the President, Office of Management and Budget.

ACTION: Notice of availability of the OMB Final Sequestration Report to the President and Congress for FY 2016.

SUMMARY: OMB is issuing its Final Sequestration Report to the President and Congress for FY 2016 to report on compliance of enacted 2016 discretionary appropriations legislation with the discretionary caps. The report finds that enacted appropriations are within the current law defense and non-defense discretionary limits for 2016; therefore, a sequestration of discretionary budget authority is not required.

DATES: Effective Date: January 4, 2016. Section 254 of the Balanced Budget and Emergency Deficit Control Act of 1985, as amended, requires the Office of Management and Budget (OMB) to issue its Final Sequestration Report 15 calendar days after the end of a congressional session. With regard to this final report and to each of the three required sequestration reports, section 254(b) specifically states the following:

SUBMISSION AND AVAILABILITY OF REPORTS.—Each report required by this section shall be submitted, in the case of CBO, to the House of Representatives, the Senate and OMB and, in the case of OMB, to the House of Representatives, the Senate, and the President on the day it is issued. On the following day a notice of the report shall be printed in the Federal Register.

ADDRESSES: The OMB Sequestration Reports to the President and Congress is available on-line on the OMB home page at: http://www.whitehouse.gov/omb/legislative_reports/sequestration

FOR FURTHER INFORMATION CONTACT: Thomas Tobasko, 6202 New Executive Office Building, Washington, DC 20503, Email address: ttobasko@omb.eop.gov, telephone number: (202) 395-5745, FAX number: (202) 395-4768. Because of delays in the receipt of regular mail related to security screening, respondents are encouraged to use electronic communications.

Shaun Donovan,
Director.

[FR Doc. 2016-00087 Filed 1-7-16; 8:45 am]

BILLING CODE P